DEPARTMENT OF HEALTH AND HUMAN SERVICES

Administration for Community Living

Availability of Program Application Instructions for Title VII, Part B of the Rehabilitation Act, Independent Living Services To Expand the Public Health Workforce

Title: Expanding the Public Health Workforce Within the Disability Networks: Independent Living Services.

Announcement Type: Initial.

Statutory Authority: The statutory authority for grants under this program announcement is Section 2501 of the American Rescue Plan Act of 2021 (Pub. L. 117-2) and awards authorized under Title VII, Part B of the Rehabilitation Act of 1973 (29. U.S.C. 796f et seq.), Independent Living Services, shall be provided funding under this opportunity.

Catalog of Federal Domestic Assistance (CFDA) Number: 93.369.

DATES: The deadline date for the submission of the Expanding the Public Health Workforce within the Disability Networks: Independent Living Services is 11:59 p.m. Eastern Time February 11, 2022.

I. Funding Opportunity Description

The Administration for Community Living (ACL) announced a new funding opportunity to expand the public health workforce within the disability networks. Public health promotes and protects the health of people and the communities where they live, learn, work, and play. The disability networks funded by ACL play an essential role in that work. The disability networks consist of trusted organizations and programs that reach and provide services and supports to people with disabilities in every community throughout the nation, including those related to public health, such as health and wellness education and information, counseling, case management and guidance related to health and social needs, as well as how to access those supports. These networks have over 50 years of community experience and possess intimate knowledge of the public health and other resources available and the needs of older adults in their direct area.

As part of its ongoing COVID-19 response efforts, the Biden-Harris Administration is investing federal funds through the American Rescue Plan Act of 2021 (ARPA) ¹ to recruit, hire, and train public health workers to respond to the pandemic and prepare for future public health challenges. Specifically, the Secretary of the U.S. Department of Health and Human Services (HHS) will “carry out activities related to establishing, expanding, and sustaining a public health workforce . . . ,” ARPA § 2501(a), and funds may be used to support costs, including wages and benefits, of a range of public health professionals including but not limited to social support professionals, community health workers, communication and policy experts and “. . . other positions as may be required to prevent, prepare for, and respond to COVID-19 . . . ,” ARPA § 2501(b)(1).

¹ American Rescue Plan Act of 2021, Public Law 117-2, 135 Stat 4 (Mar. 11, 2021).

To help advance these efforts, ACL has created the Expanding the Public Health Workforce within the Disability Networks program. This program aims to increase the number of public health professionals within the disability networks to address the unique needs of people with disabilities through the support of wages and benefits for these professionals. Professionals supported through this program may provide a wide range of public health services and supports, including provision of culturally affirmative and linguistically accessible information, access assistance for vaccines and boosters, transition and diversion from high-risk congregate settings to community living, provision and connections to health and wellness programs, activities that address social isolation and social determinants of health, and other activities that support the public health and wellbeing of people with disabilities.

Designated state entities (DSEs)—the eligible entities for this opportunity—shall be provided funding to support wages and benefits for new staff or increase the full-time equivalent (FTE) of existing staff under this opportunity within the Part B Independent Living Services program. Award recipients are encouraged to make sub-awards to Part B funded CILs, Statewide Independent Living Councils (SILCs), and/or Part C funded CILs that receive Part B funding. Sub-awards may be allocated through an even distribution or based on information in the state plan for independent living, or other distribution based on need as determined by the chairperson of the SILC and the directors of the CILs in the State for the purposes of this funding. Although not required for funding, grantees are encouraged to explore options for funding to sustain the new FTE after the end of the grant. There is no cost sharing or matching requirement for this funding.

Award recipients will be required to submit annual progress reports in the form of a written summary on the number of full-time equivalents (FTEs) funded, type of public health professional(s) hired, and the activities they are engaged in to advance public health. To be eligible to receive this grant, the DSE must submit a Letter of Assurance to ACL containing all the assurances required (see “Section III. Eligibility Criteria and Other Requirements” and “Section IV. Submission Information”). DSEs that do not submit a Letter of Assurance or otherwise indicate no desire to receive funds, will be excluded from receiving funds.

ACL may extend deadlines based on the need of the COVID-19 response, e.g., to meet unanticipated issues related to COVID-19 and/or to allow impacted DSEs that missed the cut-off date to submit a Letter of Assurance for consideration. ACL intends to issue notices of award as soon as possible with an estimated start date of March 1, 2022. However, the actual award may be released earlier or later than that date. Because the total amount awarded to each grantee is contingent upon the total number of grantees applying for funding, grant awards will be issued after ACL receives responses from all eligible DSEs. Regardless of the date of award, the funding will be available until September 30, 2024. Grantees may use the funds over any period of time before this date but are encouraged to use the funding as soon as possible to have the greatest impact.

II. Award Information

1. Funding Instrument Type

These awards will be made in the form of new grants, evenly distributed to eligible entities.

2. Anticipated Total Funding per Budget Period

Awards made under this announcement will have an estimated start date of March 1, 2022 and an end date of September 30, 2024.

The total available funding for this opportunity is $4,480,000.

Eligible entities who do not complete assurance requirements below, or otherwise indicate no desire to receive funds, will be excluded from receiving funds. This will have the effect of increasing the amount of funds available for eventual recipients.

ACL will distribute the $4,480,000 evenly to all eligible entities to ensure a sufficient level of funding to provide substantive support for the public health workforce, which equates to a minimum award of $80,000. This figure is based on the current number of eligible entities and would rise if some eligible entities refuse or are deemed ineligible.

III. Eligibility Criteria and Other Requirements

1. Eligible Entities

The eligible entity for these awards is the designated state entity (DSE) for Part B Independent Living Services under Title VII of the Rehabilitation Act.

2. Match

Cost Sharing or Matching is not required.

3. Other Requirements

A. Letter of Assurance

A Letter of Assurance is required to be submitted by the eligible entity in order to receive an award. The Letter of Assurance must include the following:

1. Assurance that the award recipient is the DSE for Part B Independent Living Services.

2. Assurance that funds will be spent in ways consistent with the purpose of the funding to support the cost of wages and benefits for public health professionals, directly or through contract, such as:

• Case investigator,

• Contact tracer,

• Social support specialist,

• Community health worker,

• Public health nurse,

• Disease intervention specialist,

• Epidemiologist,

• Program manager,

• Laboratory personnel,

• Informaticians,

• Communication and policy experts,

• Other positions as may be required to prevent, prepare for, and respond to COVID-19.

3. Plan for the distribution of funds within the state Part B funded independent living services program. Award recipients are encouraged to make sub-awards to Part B funded CILs, Statewide Independent Living Councils (SILCs), and/or Part C funded CILs that receive Part B funding. Sub-awards may be allocated through an even distribution or based on information in the state plan for independent living, or other distribution based on need as determined by the chairperson of the SILC and the directors of the CILs in the State for the purposes of this funding.

4. Assurance to provide semi-annual federal financial reports and annual program reports that include the number and type of full-time equivalents hired, and activities performed to advance public health.

B. DUNS Number

All grant applicants must obtain and keep current a D-U-N-S number from Dun and Bradstreet. It is a nine-digit identification number, which provides unique identifiers of single business entities. The D-U-N-S number can be obtained from: https://iupdate.dnb.com/iUpdate/viewiUpdateHome.htm.

C. Intergovernmental Review

Executive Order 12372, Intergovernmental Review of Federal Programs, is not applicable to these grant applications.

IV. Submission Information

1. Letter of Assurance

To receive funding, eligible entities must provide a Letter of Assurance containing all the information outlined in Section III above.

Letters of Assurance should be addressed to: Jennifer Johnson, Deputy Commissioner, Administration on Disabilities, Administration for Community Living.

Letters of Assurance should be submitted electronically via email to PHWF@acl.hhs.gov.

2. Submission Dates and Times

To receive consideration, Letters of Assurance must be submitted by 11:59 p.m. Eastern Time on February 11, 2022. Letters of Assurance should be submitted electronically via email and have an electronic time stamp indicating the date/time submitted.

VII. Agency Contacts

1. Programmatic and Submission Issues

Direct programmatic inquiries to PHWF@acl.hhs.gov.

Dated: January 6, 2022.
Alison Barkoff,
Principal Deputy Administrator.

[FR Doc. 2022-00398 Filed 1-11-22; 8:45 am]

BILLING CODE 4154-01-P